DEPARTMENT OF HOMELAND SECURITY

Coast Guard

[USCG-2004-19205]

Senior Executive Service Performance Review Board Membership

AGENCY: Coast Guard, DHS.

ACTION: Notice of appointments.

SUMMARY: The Coast Guard is providing notice of the appointment of 11 individuals to serve on its Performance Review Board.

FOR FURTHER INFORMATION CONTACT: Ronald Kogut, Chief, Office of Civilian Personnel, (202) 267-0921.

SUPPLEMENTARY INFORMATION: Under 5 U.S.C. 4314(c)(4), the Coast Guard is required to publish the names of individuals appointed to serve on the Coast Guard Performance Review Board (CGPRB). The following 11 persons have been selected to serve on the CGPRB:

Rear Admiral K.T. Venuto, Assistant Commandant for Human Resources, United States Coast Guard;

Rear Admiral D.G. Gabel, Assistant Commandant for Acquisition, United States Coast Guard;

Rear Admiral L.L. Hereth, Director of Port Security, United States Coast Guard;

Rear Admiral R.D. Sirois, Assistant Commandant for Operations, United States Coast Guard;

Rear Admiral J.C. Van Sice, Director of Reserve and Training, United States Coast Guard;

Rear Admiral D.W. Kunkel, Director of Operations Capability, United States Coast Guard;

Rear Admiral J.W. Underwood, Director of Operations Policy, United States Coast Guard;

Rear Admiral E.M. Brown, Assistant Commandant for Systems, United States Coast Guard;

Mr. John Matticks, Senior Planning Advisor, Federal Emergency Management Agency;

Ms. Sheila Lumsden, Deputy Assistant Director for Human Resources and Training, U.S. Secret Service; and

Mr. Sam Russ, Executive Director for Tactical Communications, U.S. Customs and Border Protection.

Dated: October 15, 2004.
Ronald Kogut,
Chief, Office of Civilian Personnel.

[FR Doc. 04-23565 Filed 10-20-04; 8:45 am]

BILLING CODE 4910-15-P